DEPARTMENT OF ENERGY

Federal Energy Regulatory Commission

[Docket No. EL99-75-003]

California Electricity Oversight Board; Notice of Filing

April 13, 2000.

Take notice that on March 20, 2000, the California Independent System Operator Corporation (ISO) tendered for filing an amendment to its Amended and Restated Bylaws, as revised December 1999. The Amended and Revised Bylaws are intended to comply with the Commission's Order in the above-captioned docket. The instant amendment requests that the Commission accept the amendment effective March 20, 2000.

The ISO states that this filing has been served upon all persons on the official service list in the above-identified docket.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before April 24, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-9770 Filed 4-18-00; 8:45 am]

BILLING CODE 6717-01-M